DEPARTMENT OF ENERGY

Federal Energy Regulatory Commission

Notice of Meeting, Notice of Vote, Explanation of Action Closing Meeting and List of Persons To Attend

January 16, 2004.

The following notice of meeting is published pursuant to Section 3(a) of the Government in the Sunshine Act (Pub. L. No. 94-409), 5 U.S.C. 552b:

AGENCY: Federal Energy Regulatory Commission.

Date and Time: January 23, 2004, 9:30 a.m.

Place: Part I: FERC, Hearing Room 3M 4A/B, 888 First Street, NE., Washington, DC 20426.

Part II: Nuclear Regulatory Commission, 11555 Rockville Pike, Rockville, MD 20852.

Status: Closed.

Matters To Be Considered: Non-public, investigations and inquiries and enforcement related matters.

For FURTHER INFORMATION CONTACT: Magalie R. Salas, Secretary, Telephone (202) 502-8400.

Chairman Wood and Commissioners Brownell, Kelliher, and Kelly voted to hold a closed meeting on January 23, 2004. The certification of the General Counsel explaining the action closed the meeting is available for public inspection in the Commission's Public Reference Room at 888 First Street, NW., Washington, DC 20426.

The Chairman and the Commissioners, their assistants, the Commission's Secretary and her assistant, the General Counsel and members of her staff, and a stenographer are expected to attend the meeting. Other staff members from the Commission's program offices who will advise the Commissioners in the matters discussed will also be present. Staff from the Nuclear Regulatory Commission (NRC) will be meeting with FERC Commissioners at an extension of FERC's closed meeting to be held at the NRC headquarters. FERC Commissioners and NRC staff will discuss matters of mutual concern to the two agencies.

Magalie R. Salas,
Secretary.

[FR Doc. 04-1498 Filed 1-20-04; 3:39 pm]

BILLING CODE 6717-01-P